DEPARTMENT OF COMMERCE

Foreign-Trade Zones Board

[S-138-2014]

Approval of Subzone Status; Schumacher Electric Corporation, Hoopeston, Illinois

On November 12, 2014, the Executive Secretary of the Foreign-Trade Zones (FTZ) Board docketed an application submitted by the Economic Development Corporation of Decatur and Macon County, grantee of FTZ 245, requesting subzone status subject to the existing activation limit of FTZ 245, on behalf of Schumacher Electric Corporation, in Hoopeston, Illinois.

The application was processed in accordance with the FTZ Act and Regulations, including notice in the Federal Register inviting public comment (79 FR 68408, 11-17-2014). The FTZ staff examiner reviewed the application and determined that it meets the criteria for approval. Pursuant to the authority delegated to the FTZ Board Executive Secretary (15 CFR Sec. 400.36(f)), the application to establish Subzone 245B is approved, subject to the FTZ Act and the Board's regulations, including Section 400.13, and further subject to FTZ 245's 1,822-acre activation limit.

Dated: January 29, 2015.
Andrew McGilvray,
Executive Secretary.

[FR Doc. 2015-02198 Filed 2-3-15; 8:45 am]

BILLING CODE 3510-DS-P